DEPARTMENT OF ENERGY

Federal Energy Regulatory Commission

[Docket Nos. CP04-400-002]

Golden Pass Pipeline LP; Notice of Application

August 21, 2006.

Take notice that on August 11, 2006, Golden Pass Pipeline LP (GPPL) filed in Docket No. CP04-400-002 an application seeking to amend the certificate of public convenience and necessity issued July 6, 2005, in Docket No. CP04-400-000, as amended in Docket No. CP04-400-001. That certificate issued pursuant to section 7(c) of the NGA and Part 157, Subpart A of the Commission's Regulations, authorized construction and operation of facilities to transport natural gas originating from liquefied natural gas (LNG) receiving terminal to be located approximately 10 miles south of Port Arthur, Texas, and two miles northeast of the town of Sabine Pass, Texas. The previous amendment application, still under review by the Commission, seeks authorization to alter the size and route of the southern 43 miles of pipeline.

GPPL now requests authorization to make certain variations in the design of the proposed pipeline. The new design component would replace the approximately 35-mile northern segment of 36-inch diameter pipeline with a 42-inch diameter pipeline from the AEP Texoma interconnect site to the terminus of the pipeline at an interconnect with Transcontinental Gas Pipe Line Corporation near Starks, LA.

This application is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659. Any initial questions regarding these applications should be directed to Mrs. Gina M. Dickerson, 17001 Northchase Drive, Houston, Texas, 77060. Phone: (281) 654-4816.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: 5 p.m. EST on September 11, 2006.

Magalie R. Salas,
Secretary.

[FR Doc. E6-14373 Filed 8-29-06; 8:45 am]

BILLING CODE 6717-01-P